DEPARTMENT OF TRANSPORTATION

Intelligent Transportation Systems Program Advisory Committee; Notice of Meeting

AGENCY: ITS Joint Program Office, Research and Innovative Technology Administration, U.S. Department of Transportation.

ACTION: Notice.

The Intelligent Transportation Systems (ITS) Program Advisory Committee (ITS PAC) will hold a meeting on May 24, 2012, from 8:00 a.m. to 4:00 p.m. (EDT), in conference room #7 of the U.S. Department of Transportation (U.S. DOT) Conference Center on the lobby level of the U.S. DOT West Building, 1200 New Jersey Avenue SE, Washington, DC 20590.

The ITS PAC, established under Section 5305 of Public Law 109-59, Safe, Accountable, Flexible, Efficient Transportation Equity Act: A Legacy for Users, August 10, 2005, and re-chartered on January 23, 2012, was created to advise the Secretary of Transportation on all matters relating to the study, development, and implementation of intelligent transportation systems. Through its sponsor, the ITS Joint Program Office, the ITS PAC makes recommendations to the Secretary regarding ITS Program needs, objectives, plans, approaches, content, and progress.

The following is a summary of the meeting tentative agenda: (1) Welcome by RITA Acting Administrator; (2) Meeting purpose and agenda review; (3) Introduction of committee members and background; (4) Committee expectations and individual goals; (5) Briefings on various aspects of Connected Vehicle research; (6) Network security discussion; (7) Key ITS Research Program Issues; and (8) Timeline for future committee work.

The meeting will be open to the public, but limited space will be available on a first-come, first-served basis. Since access to the U.S. DOT building is controlled, non-committee members who plan to attend the meeting must notify Mr. Stephen Glasscock, the Committee Designated Federal Official, at (202) 366-9126 not later than May 17, 2012. Individuals attending the meeting must report to the 1200 New Jersey Avenue entrance of the U.S. DOT building for admission. Members of the public who wish to present oral statements at the meeting must request approval from Mr. Glasscock not later than May 17, 2012.

Questions about the agenda or written comments may be submitted by U.S. Mail to: U.S. Department of Transportation, Research and Innovative Technology Administration, ITS Joint Program Office, Attention: Stephen Glasscock, 1200 New Jersey Avenue SE., HOIT, Washington, DC 20590 or faxed to (202) 493-2027. The ITS Joint Program Office requests that written comments be submitted prior to the meeting.

Notice of this meeting is provided in accordance with the Federal Advisory Committee Act and the General Services Administration regulations (41 CFR part 102-3) covering management of Federal advisory committees.

Dated: Issued in Washington, DC, on the 26th day of April 2012.
John Augustine,
Managing Director, ITS Joint Program Office.

[FR Doc. 2012-10586 Filed 5-1-12; 8:45 am]

BILLING CODE 4910-P